DEPARTMENT OF JUSTICE

Antitrust Division

Notice Pursuant to the National Cooperative Research and Production Act of 1993—PICMG-PCI Industrial Computer Manufacturers Group, Inc.

Notice is hereby given that, on September 20, 2004, pursuant to Section 6(a) of the National Cooperative Research and Production Act of 1993, 15 U.S.C. 4301 et. seq. (“the Act”), PICMG-PCI Industrial Computer Manufacturers Group, Inc. (“PICMG”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: PICMG-PCI Industrial Computer Manufacturers Group, Inc., Wakefield, MA. The nature and scope of PICMG's standards development activities are: the development and design of open and neutral computer system standards, and performing related research and experimentation in, and implementation of, system standards and technology.

Dorothy B. Fountain,
Deputy Director of Operations, Antitrust Division.

[FR Doc. 04-26225 Filed 11-26-04; 8:45 am]

BILLING CODE 4410-11-M